DEPARTMENT OF THE INTERIOR

National Park Service

[NPS-WASO-NAGPRA-23331; PPWOCRADN0-PCU00RP14.R50000]

Notice of Inventory Completion: University of Michigan, Ann Arbor, MI

AGENCY: National Park Service, Interior.

ACTION: Notice.

SUMMARY: The University of Michigan has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the University of Michigan. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the University of Michigan at the address in this notice by July 14, 2017.

ADDRESSES: Dr. Ben Secunda, NAGPRA Project Manager, University of Michigan, Office of Research, 4080 Fleming Building, 503 Thompson Street, Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains and associated funerary objects under the control of the University of Michigan, Ann Arbor, MI. The human remains and associated funerary objects were removed from the Backlund Mound Group site (20ME2), Menominee County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Michigan Museum of Anthropological Archaeology (UMMAA) professional staff in consultation with representatives of the Hannahville Indian Community, Michigan; Ho-Chunk Nation of Wisconsin; Keweenaw Bay Indian Community, Michigan; Lac Vieux Desert Band of Lake Superior Chippewa Indians of Michigan; Match-e-be-nash-she-wish Band of Pottawatomi Indians of Michigan; Menominee Indian Tribe of Wisconsin; Nottawaseppi Huron Band of the Potawatomi, Michigan (previously listed as the Huron Potawatomi, Inc.); and Pokagon Band of Potawatomi Indians, Michigan and Indiana (hereafter “The Consulted Tribes”).

Additional requests for consultation were sent to the Bad River Band of the Lake Superior Tribe of Chippewa Indians of the Bad River Reservation, Wisconsin; Bois Forte Band (Nett Lake) of the Minnesota Chippewa Tribe, Minnesota; Chippewa-Cree Indians of the Rocky Boy's Reservation, Montana; Citizen Potawatomi Nation, Oklahoma; Fond du Lac Band of the Minnesota Chippewa Tribe, Minnesota; Forest County Potawatomi Community, Wisconsin; Grand Portage Band of the Minnesota Chippewa Tribe, Minnesota; Lac Courte Oreilles Band of Lake Superior Chippewa Indians of Wisconsin; Lac du Flambeau Band of Lake Superior Chippewa Indians of the Lac du Flambeau Reservation of Wisconsin; Leech Lake Band of the Minnesota Chippewa Tribe, Minnesota; Mille Lacs Band of the Minnesota Chippewa Tribe, Minnesota; Prairie Band of Potawatomi Nation, Kansas; Quechan Tribe of the Fort Yuma Indian Reservation, California and Arizona; Red Cliff Band of Lake Superior Chippewa Indians of Wisconsin; Red Lake Band of Chippewa Indians, Minnesota; St. Croix Chippewa Indians of Wisconsin; Sokaogon Chippewa Community, Wisconsin; Turtle Mountain Band of Chippewa Indians of North Dakota; White Earth Band of the Minnesota Chippewa Tribe, Minnesota; and Winnebago Tribe of Nebraska (hereafter “The Tribes Invited to Consult”).

History and Description of the Remains

In the summer of 1956, human remains representing, at minimum, 20 individuals were removed from the Backlund Mound Group site (20ME2) in Menominee County, MI. Archeologists from the UMMAA excavated three low, conical mounds on the bank of the Menominee River. Two features within one of the mounds held human remains and funerary objects. In one feature, the human remains consist of 1 child, 4-8 years old, sex indeterminate, and an infant, sex indeterminate. Another feature within the mound, described as a rock-capped ossuary, held the human remains of, at minimum, 18 individuals. The human remains consist of 1 older adult, possibly female; 1 adult female over 50 years old; 4 adult males over 50 years old; 1 adult female over 40 years old; 1 adult male, 30-50 years old; 1 adult male, 35-49 years old; 1 adult male, 30-40 years old; 1 young adult, possibly male, 20-35 years old; 1 adult male, age indeterminate; 1 young adult female, 20-25 years old; 1 adolescent, 11-14 years old, sex indeterminate; 1 child, 8-10 years old, sex indeterminate; 1 child, age and sex indeterminate; 1 neonate; and 1 cremated adult. One lot of DNA extractions, taken from the human remains in this collection between 1996 and 2006, are also included in this notice. The burials have been dated to the Late Woodland Period (A.D. 1350, +/−110 years) based on Carbon 14 analysis of charcoal from the site. No known individuals were identified. Three associated funerary objects found in the mound fill are one copper spear point; one perforated long bone fragment, possibly deer; and one lot of beak fragments from a female eagle.

The human remains have been determined to be Native American, based on cranial morphology and dental traits. A relationship of shared group identity can be reasonably traced between the Native American human remains from this site and the Menominee Indian Tribe of Wisconsin, based on multiple lines of evidence. The mode of burial, specifically ossuary burial within a conical mound, suggests a merging of practices between the large ossuary burials recorded at late pre-contact sites in the northern Great Lakes area and earlier practices of mound burial observed among northern forager groups. The ceramic assemblage collected from contemporary midden deposits identified at the site is strongly suggestive of Algonquian origin. The site is located within the aboriginal lands of the Menominee as described in traditional and historical accounts, and at a date that makes these descriptions relevant.

Determinations Made by the University of Michigan

Officials of the University of Michigan have determined that:

• Pursuant to 25 U.S.C. 3001(9), the human remains described in this notice represent the physical remains of 20 individuals of Native American ancestry.

• Pursuant to 25 U.S.C. 3001(3)(A), the 3 objects described in this notice are reasonably believed to have been placed with or near individual human remains at the time of death or later as part of the death rite or ceremony.

• Pursuant to 25 U.S.C. 3001(2), there is a relationship of shared group identity that can be reasonably traced between the Native American human remains and associated funerary objects and the Menominee Indian Tribe of Wisconsin.

Additional Requestors and Disposition

Lineal descendants or representatives of any Indian tribe or Native Hawaiian organization not identified in this notice that wish to request transfer of control of these human remains and associated funerary objects should submit a written request with information in support of the request to Dr. Ben Secunda, NAGPRA Project Manager, University of Michigan, Office of Research, 4080 Fleming Building, 503 Thompson Street, Ann Arbor, MI 48109-1340, telephone (734) 647-9085, email bsecunda@umich.edu, by July 14, 2017. After that date, if no additional requestors have come forward, transfer of control of the human remains and associated funerary objects to the Menominee Indian Tribe of Wisconsin may proceed.

The University of Michigan is responsible for notifying The Consulted Tribes and The Tribes Invited to Consult that this notice has been published.

Dated: April 28, 2017.
Melanie O'Brien,
Manager, National NAGPRA Program.

[FR Doc. 2017-12290 Filed 6-13-17; 8:45 am]

BILLING CODE 4312-52-P